DEPARTMENT OF EDUCATION

34 CFR Part 75 and Chapter III

Rehabilitation Continuing Education Program (RCEP) for the Technical Assistance and Continuing Education Centers (TACE Centers); Proposed Extension of Project Period and Waiver

[Catalog of Federal Domestic Assistance (CFDA) Number: 84.264A.]

AGENCY: Rehabilitation Services Administration, Office of Special Education and Rehabilitative Services (OSERS), Department of Education.

ACTION: Proposed extension of project period and waiver.

SUMMARY: For 60-month projects initially funded in fiscal year (FY) 2008 under the Rehabilitation Continuing Education Program (RCEP) for the Technical Assistance and Continuing Education Centers (TACE Centers), the Secretary proposes to waive the requirements that generally prohibit project periods exceeding five years and extensions of project periods involving the obligation of additional Federal funds. The Secretary also proposes to extend project periods for one year or longer. The proposed extension and waiver would enable the currently funded TACE Centers to receive funding through September 30, 2014.

DATES: We must receive your comments on or before April 15, 2013.

ADDRESSES: Address all comments about this proposed extension of project period and waiver to RoseAnn Ashby, U.S. Department of Education, 400 Maryland Avenue SW., Room 5055, Potomac Center Plaza, Washington, DC 20202-2800.

If you prefer to send your comments by email, use the following address: roseann.ashby@ed.gov. You must include the phrase “Proposed extension of project period and waiver” in the subject line of your message.

FOR FURTHER INFORMATION CONTACT: RoseAnn Ashby at the address listed in the ADDRESSES section of this notice. Telephone: (202) 245-7258.

If you use a telecommunications device for the deaf (TDD) or a text telephone (TTY), call the Federal Relay Service (FRS), toll-free, at 1-800-877-8339.

SUPPLEMENTARY INFORMATION:

Invitation to Comment: We invite you to submit comments about this proposed extension of project period and waiver. During and after the comment period, you may inspect all public comments about this proposal in room 5055, Potomac Center Plaza, 550 12th Street SW., Washington, DC, between the hours of 8:30 a.m. and 4:00 p.m., Washington, DC time, Monday through Friday of each week except Federal holidays.

Assistance to Individuals With Disabilities in Reviewing the Rulemaking Record: On request, we will supply an appropriate accommodation or auxiliary aid to an individual with a disability who needs assistance to review the comments or other documents in the public rulemaking record for this notice. If you want to schedule an appointment for this type of accommodation or auxiliary aid, please contact the person listed under FOR FURTHER INFORMATION CONTACT.

Background

On June 5, 2008, and October 20, 2008, the Department published notices in the Federal Register (73 FR 32006, 73 FR 62263) inviting applications for new awards for FYs 2008 and 2009 for TACE Centers to be funded under the Rehabilitation Training Program, authorized under section 302 of the Rehabilitation Act of 1973, as amended (Rehabilitation Act). The Department awarded grants to a total of 10 TACE Centers—eight in FY 2008, and two in early FY 2009—for a period of 60 months. All 10 projects are scheduled to end in calendar year 2013.

For these projects, the Secretary proposes to waive the requirements in 34 CFR 75.250 and 34 CFR 75.261(c)(2), which prohibit project periods exceeding five years and project period extensions that involve the obligation of additional Federal funds. The Secretary also proposes to extend the project periods for up to 12 months to continue operations.

The purpose of these Centers is to improve the quantity and quality of employment outcomes for individuals with disabilities through enhanced technical assistance (TA) and continuing education (CE) for State vocational rehabilitation (VR) agencies and agency partners that cooperate with State VR agencies in providing VR and other rehabilitation services (e.g., Centers for Independent Living (CILs), Client Assistance Programs (CAPs), and Community Rehabilitation Programs (CRPs)).

The TACE Centers contribute to the following outcomes: Improved quality of VR services, increased effectiveness and efficiency of State VR agencies in delivering VR services, and improved quantity and quality of VR employment outcomes for individuals with disabilities. The TACE Centers must contribute to these outcomes by providing, either directly or through contract, TA to State VR agencies and agency partners. The TACE Centers must also provide CE to employees of State VR agencies and agency partners on topics that are identified jointly by the Rehabilitation Services Administration (RSA) and each TACE Center's advisory committee, and included in the TACE Center's annual work plan.

At this time, the Department does not believe that it would be in the public interest to run a competition under this program for new TACE Centers. The Department is in the process of reviewing and analyzing the current program to determine future needs, strategies, and funding priorities for FY 2014.

On November 8, 2012, the Department published a request for information in the Federal Register (77 FR 66959) to allow the Department to gather input on grants awarded under the Rehabilitation Training Program. One section of this notice posed specific questions about how the provision of TA and CE to State VR agencies would be most effective and efficient. The Department is currently analyzing responses to these questions. The Department also plans to conduct several focus groups, meet with the representatives of several national rehabilitation organizations over the next six months, and pose similar questions to these groups. The analysis of the public input obtained from the request for information and the input gathered through meeting with groups of rehabilitation stakeholders will form the basis for future funding priorities.

Since 2008, when the TACE Centers were established, the TA and CE needs of the field have changed as a result of new issues and economic challenges facing State VR agencies. In addition, as a result of technological advances, there are new modes of service delivery that must be fully explored before funding new grants to provide TA and CE to State VR agencies. The Department will need the remainder of FY 2013 to meet with groups of stakeholders and to do the necessary analysis of the public comments received. This will enable the Department to develop a TA and CE strategy for State VR agencies and their partners that maximizes the effectiveness and efficiency of the services provided and addresses the input of a broad spectrum of stakeholders. The Department plans to publish new funding priorities in FY 2014. Conducting a competition before the Department has had an opportunity to seek input from all stakeholders and analyze the current and emerging TA and CE needs of the VR field could result in an ineffective or poorly targeted investment that would not serve the needs of State VR agencies, their clients, or the public at large.

The Department has also concluded that it would be contrary to the public interest to have a lapse in the provision of TA and CE currently provided by the TACE Centers. Allowing funding to lapse before a new TA and CE delivery system can be implemented would leave State VR agencies and their partners without necessary supports in the event that critical needs arise.

For these reasons, the Secretary proposes to waive the requirements in 34 CFR 75.250, which prohibit project periods exceeding five years, and the requirements in 34 CFR 75.261(c)(2), which limits the extension of a project period if the extension involves the obligation of additional Federal funds, and to issue continuation awards to the ten current TACE grantees for a total amount not to exceed $9,000,000. Under this proposal, the eight current TACE grantees with project periods ending on September 30, 2013, would receive funding to operate for an additional 12 months. The two current TACE grantees with project periods ending on December 21, 2013, would receive funds for an additional nine months. Consequently, the expiration date for all 10 grants would be September 30, 2014. Waiving these regulations and issuing these continuation awards will ensure that TA and CE to State VR agencies and their partners will not be interrupted. It will also ensure that the Department has adequate opportunity to solicit feedback and develop a coordinated TA and CE strategy that will best meet the needs of State VR agencies and their partners.

With this proposed extension of project period and waiver, each TACE Center will be required to continue to carry out activities during the year of the continuation award consistent with the scope, goals, and objectives of the grantee's application as approved in the 2008 competition.

Regulatory Flexibility Act Certification

The Secretary certifies that this proposed extension of project period and waiver would not have a significant economic impact on a substantial number of small entities. The only entities that would be affected are the ten current grantees receiving Federal funds to serve as the TACE Centers and any other potential applicants.

The Secretary certifies that the proposed waivers and extensions would not have a significant economic impact on these entities because the proposed waivers and extensions impose minimal compliance costs to extend projects already in existence, and the activities required to support the additional year of funding would not impose additional regulatory burdens or require unnecessary Federal supervision.

Paperwork Reduction Act of 1995

This notice of proposed extension of project period and waiver does not contain any information collection requirements.

Intergovernmental Review: This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 12, 2013.
Michael Yudin,
Acting Assistant Secretary for Special Education and Rehabilitative Services.

[FR Doc. 2013-06077 Filed 3-14-13; 8:45 am]

BILLING CODE 4000-01-P